DEPARTMENT OF HOMELAND SECURITY

Federal Emergency Management Agency

[Docket ID FEMA-2019-0002; Internal Agency Docket No. FEMA-B-1933]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before October 3, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1933, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Buchanan County, Iowa and Incorporated Areas
Project: 17-07-0295S Preliminary Date: December 10, 2018
City of Aurora | City Office, 331 Main Street, Aurora, IA 50607.
City of Brandon | City Hall, 400 North Street, Brandon, IA 52210.
City of Fairbank | City Hall, 116 East Main Street, Fairbank, IA 50629.
City of Hazleton | City Hall, 111 3rd Street North, Hazleton, IA 50641.
City of Independence | City Hall, 331 1st Street East, Independence, IA 50644.
City of Jesup | City Hall, 791 6th Street, Jesup, IA 50648.
City of Lamont | City Hall, 644 Bush Street, Lamont, IA 50650.
City of Quasqueton | City Hall, 113 Water Street North, Quasqueton, IA 52326.
City of Stanley | Mayor's Office, 128 East Main Street, Stanley, IA 50671.
City of Winthrop | City Clerk's Office, 354 Madison Street, Winthrop, IA 50682.
Unincorporated Areas of Buchanan County | Buchanan County Courthouse Zoning Office, 210 5th Avenue Northeast, Suite I, Independence, IA 50644.
Butler County, Iowa and Incorporated Areas
Project: 17-07-0295S Preliminary Date: November 15, 2018
City of Allison | City Hall, 410 North Main Street, Allison, IA 50602.
City of Aplington | City Hall, 409 10th Street, Aplington, IA 50604.
City of Aredale | City Hall, 102 East Main Street, Aredale, IA 50605.
City of Bristow | City Hall, 716-A West Street, Bristow, IA 50611.
City of Clarksville | City Hall, Maintenance, 115 West Superior Street, Clarksville, IA 50619.
City of Dumont | City Hall, 625 1st Street, Dumont, IA 50625.
City of Greene | City Hall, 202 West South Street, Greene, IA 50636.
City of New Hartford | City Hall, 503 Packwaukee Street, New Hartford, IA 50660.
City of Parkersburg | City Hall, 608 Highway 57, Parkersburg, IA 50665.
City of Shell Rock | City Hall, 802 North Public Road, Shell Rock, IA 50670.
Unincorporated Areas of Butler County | Butler County Courthouse Engineering Department, 428 6th Street, Allison, IA 50602.
Muscatine County, Iowa and Incorporated Areas
Project: 16-07-2337S Preliminary Date: August 29, 2018
City of Atalissa | City Hall, 122 3rd Street, Atalissa, IA 52720.
City of Muscatine | City Hall, 215 Sycamore Street, Muscatine, IA 52761.
City of Nichols | City Hall, 429 Ijem Avenue, Nichols, IA 52766.
City of Stockton | City Hall, 318 Commerce Street, Stockton, IA 52769.
City of West Liberty | City Hall, 409 North Calhoun Street, West Liberty, IA 52776.
City of Wilton | City Hall, 104 East 4th Street, Wilton, IA 52778.
Unincorporated Areas of Muscatine County | Muscatine County Building, 3610 Park Avenue West, Muscatine, IA 52761.
St. Clair County, Michigan (All Jurisdictions)
Project: 13-05-1848S Preliminary Date: December 14, 2018
Township of Clay | Township Municipal Building, 4710 Pointe Tremble Road, Algonac, MI 48001.
Township of Cottrellville | Township Hall, 7008 Marsh Road, Cottrellville, MI 48039.
Township of Ira | Township Hall, 7085 Meldrum Road, Fair Haven, MI 48023.

[FR Doc. 2019-14329 Filed 7-3-19; 8:45 am]

BILLING CODE 9110-12-P